DEPARTMENT OF HOMELAND SECURITY

Office of the Secretary

[Docket No. DHS-2010-0090]

Privacy Act of 1974; Department of Homeland Security/ALL—032 Official Passport Application and Maintenance Records System of Records

AGENCY: Privacy Office, DHS.

ACTION: Notice of Privacy Act system of records.

SUMMARY: In accordance with the Privacy Act of 1974, the Department of Homeland Security proposes to establish a new Department of Homeland Security system of records titled, “Department of Homeland Security/ALL—032 Official Passport Application and Maintenance Records System of Records.” This system of records will allow the Department of Homeland Security to collect and maintain a copy of an official passport application or maintenance record on Department of Homeland Security employees and former employees, including political appointees, civilian, and military personnel (and dependents and family members that accompany military members assigned outside the continental United States) assigned or detailed to the Department, individuals who are formally or informally associated with the Department, including advisory committee members, employees of other agencies and departments in the federal government, and other individuals in the private and public sector who are on official business with the Department, who in their official capacity, are applying for an official passport or updating their official passport records where a copy is maintained by the Department. Passport applications and updated passport records are transmitted to the Department of State for passport issuance. Official passport application and maintenance records maintained by the Department of State are covered by Department of State—26 Passport Records, January 9, 2008, found at http://www.state.gov/m/a/ips/c25533.htm. This newly established system will be included in the Department of Homeland Security's inventory of record systems.

DATES: Submit comments on or before March 17, 2011. This new system will be effective March 17, 2011.

ADDRESSES: You may submit comments, identified by docket number DHS-2010-0090 by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions or privacy issues please contact: Mary Ellen Callahan (703-235-0780), Chief Privacy Officer, Privacy Office, Department of Homeland Security, Washington, DC 20528.

SUPPLEMENTARY INFORMATION:

I. Background

In accordance with the Privacy Act of 1974, 5 U.S.C. 552a, the Department of Homeland Security (DHS) proposes to establish a new DHS system of records titled, “DHS/ALL—032 Official Passport Application and Maintenance Records System of Records.”

This system of records will allow DHS to collect and maintain a copy of an official passport application or maintenance record on DHS employees and former employees, including political appointees, civilian, and military personnel (and dependents and family members that accompany military members assigned outside the continental United States) assigned or detailed to the Department, individuals who are formally or informally associated with the Department, including advisory committee members, employees of other agencies and departments in the federal government, and other individuals in the private and public sector who are on official business with the Department, who in their official capacity, are applying for an official passport or updating their official passport records where a copy is maintained by the Department. Passport applications and updated passport records are transmitted to the Department of State for passport issuance. Official passport application and maintenance records maintained by the Department of State are covered by Department of State—26 Passport Records, January 9, 2008, found at http://www.state.gov/m/a/ips/c25533.htm. This newly established system will be included in the Department of Homeland Security's inventory of record systems.

DHS is authorized to implement this program primarily through 5 U.S.C. 301; 44 U.S.C. 3101; and 6 U.S.C. 112. This system has an affect on individual privacy that is balanced by the need to collect and maintain official passport records. Routine uses contained in this notice include sharing with the Department of Justice (DOJ) for legal advice and representation; to a congressional office at the request of an individual; to the National Archives and Records Administration (NARA) for records management; to contractors in support of their contract assignment to DHS; to agencies, organizations or individuals for the purpose of audit; to agencies, entities, or persons during a security or information compromise or breach; to an agency, organization, or individual when there could potentially be a risk of harm to an individual; to an appropriate Federal, State, tribal, local, international, or foreign law enforcement agency or other appropriate authority charged with investigating or prosecuting a violation or enforcing or implementing a law, rule, regulation, or order; to appropriate international authorities for administrative purposes relating to international travel where such disclosure is proper and consistent with the official duties of the traveling DHS individual; to the Department of State (DOS) when DHS individuals who, in their official capacity, are applying for an official passport or updating their official passport records where a copy is maintained by DHS; to a court, magistrate, or administrative tribunal in the course of presenting evidence, including disclosures to opposing counsel or witnesses in the course of civil discovery, litigation, or settlement negotiations or in connection with criminal law proceedings or in response to a subpoena from a court of competent jurisdiction; and to the news media in the interest of the public. A review of this system is being conducted to determine if the system of records collects information under the Paperwork Reduction Act (PRA).

This newly established system will be included in DHS's inventory of record systems.

II. Privacy Act

The Privacy Act embodies fair information practice principles in a statutory framework governing the means by which the U.S. Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass U.S. citizens and lawful permanent residents. As a matter of policy, DHS extends administrative Privacy Act protections to all individuals where systems of records maintain information on U.S. citizens, lawful permanent residents, and visitors.

Below is the description of the DHS/ALL—032 Official Passport Application and Maintenance Records System of Records.

In accordance with 5 U.S.C. 552a(r), DHS has provided a report of this system of records to the Office of Management and Budget and to Congress.

System of Records

Department of Homeland Security (DHS)/ALL—032

System name:

DHS/ALL—032 Official Passport Application and Maintenance Records System of Records.

Security classification:

Sensitive but Unclassified and Unclassified.

System location:

Records are maintained at DHS and Component Headquarters in Washington, DC and field offices.

Categories of individuals covered by the system:

DHS employees and former employees, including political appointees, civilian, and military personnel (and dependents and family members that accompany military members assigned outside the continental United States) assigned or detailed to the Department, individuals who are formally or informally associated with the Department, including advisory committee members, employees of other agencies and departments in the federal government, and other individuals in the private and public sector who are on official business with the Department, who in their official capacity, are applying for an official passport or updating their official passport records where a copy is maintained by the Department.

Categories of records in the system:

• Official passport books and passport cards, applications for official passport books and official passport cards, maintenance records in support of official passport books and official passport cards, and applications for additional visa pages, amendments, extensions, replacements, and/or renewals of official passport books or cards (including all information and materials submitted as part of or with all such applications) including, but not limited to:

○ Name, date of birth, social security number, contact information, and address;

• Applications for registration at American Diplomatic and Consular Posts as U.S. citizens or for issuance of Cards of Identity and Registration as U.S. Citizens;

• Consular Reports of Birth Abroad of United States citizens;

• Certificates of Witness to Marriage;

• Certificates of Loss of United States Nationality;

• Oaths of Repatriation;

• Consular Certificates of Repatriation;

• Reports of Death of an American Citizen Abroad;

• Cards of Identity and Registration as U.S. citizens; and

• Miscellaneous materials, which are documents and/or records maintained separately, if not in the application, including but not limited to the following types of documents:

○ Birth and baptismal certificates;

○ Medical, personal, and financial reports; and/or

○ Records of lost and stolen passports.

Authority for maintenance of the system:

5 U.S.C. 301; 44 U.S.C. 3101; and 6 U.S.C. 112.

Purpose(s):

The purpose of this system is to collect and maintain a copy of an official passport application or maintenance record on DHS employees and former employees, including political appointees, civilian, and military personnel (and dependents and family members that accompany military members assigned outside the continental United States) assigned or detailed to the Department, individuals who are formally or informally associated with the Department, including advisory committee members, employees of other agencies and departments in the federal government, and other individuals in the private and public sector who are on official business with the Department, who in their official capacity, are applying for an official passport or updating their official passport records where a copy is maintained by the Department.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including U.S. Attorney Offices, or other federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The U.S. or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration (NARA) or other federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To appropriate foreign government authorities for administrative purposes relating to foreign travel in order to facilitate official travel for the individual traveling.

I. To the Department of State when employees and former employees, including political appointees, civilian, and military personnel (and dependents and family members that accompany military members assigned outside the continental United States) assigned or detailed to the Department, individuals who are formally or informally associated with the Department, including advisory committee members, employees of other agencies and departments in the federal government, and other individuals in the private and public sector who are on official business with the Department, who in their official capacity, are applying for an official passport or updating their official passport records where a copy is maintained by DHS in order to receive an official passport.

J. To a court, magistrate, or administrative tribunal in the course of presenting evidence, including disclosures to opposing counsel or witnesses in the course of civil discovery, litigation, or settlement negotiations or in connection with criminal law proceedings or in response to a subpoena from a court of competent jurisdiction.

K. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by any of the Category of Records Listed above.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

Records within this system of records are maintained and disposed of in accordance with NARA approved General Records Schedule (GRS) 9 Item 5, Sections a-c. Application files including documents relating to the issuance of official passports, including requests for passports, transmittal letters, receipts, and copies of travel authorizations should be destroyed when 3 years old or upon separation of the employee, whichever is sooner in accordance with N1-GRS-91-1, item 5a. Annual reports concerning official passports including reports to the DOS concerning the number of official passports issued and related matters should be destroyed when 1 year old in accordance with N1-GRS-91-1, item 5b. Passport registers including registers and lists of agency personnel who have official passports should be destroyed when superseded or obsolete in accordance with N1-GRS-98-2, item 9. Official passports should be returned to the DOS upon expiration or upon the separation of the employee.

System Manager and address:

Program Manager for Passport Processing (202-282-8020), Service Center, Office of the Chief Administrative Officer, Department of Homeland Security, Washington, DC 20528.

Notification procedure:

Individuals seeking notification of and access to any record contained in this system of records, or seeking to contest its content, may submit a request in writing to the headquarters or component FOIA Officer, whose contact information can be found at http://www.dhs.gov/foia under “contacts.” If an individual believes more than one component maintains Privacy Act records concerning him or her the individual may submit the request to the Chief Privacy Officer and Chief Freedom of Information Act Officer, Department of Homeland Security, 245 Murray Drive, SW., Building 410, STOP-0655, Washington, DC 20528.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record source categories:

Records are obtained from Department employees and contractors.

Exemptions claimed for the system:

None.

Dated: January 21, 2011.
Mary Ellen Callahan,
Chief Privacy Officer, Department of Homeland Security.

[FR Doc. 2011-3450 Filed 2-14-11; 8:45 am]

BILLING CODE 9110-9B-P